DEPARTMENT OF TRANSPORTATION

Federal Highway Administration

[Docket No. FHWA-2017-0037]

Agency Information Collection Activities: Request for Comments for a New Information Collection

AGENCY: Federal Highway Administration (FHWA), DOT.

ACTION: Notice and request for comments.

SUMMARY: The FHWA has forwarded the information collection request described in this notice to the Office of Management and Budget (OMB) for approval of a new information collection. We published a Federal Register Notice with a 60-day public comment period on this information collection on June 19, 2017. We are required to publish this notice in the Federal Register by the Paperwork Reduction Act of 1995.

DATES: Please submit comments by October 10, 2017.

ADDRESSES: You may send comments within 30 days to the Office of Information and Regulatory Affairs, Office of Management and Budget, 725 17th Street NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket No. FHWA- 2017-0037.

FOR FURTHER INFORMATION CONTACT: Dana Gigliotti, 202-366-1290, dana.gigliotti@dot.gov, Highway Safety Specialist, Office of Safety Programs, Federal Highway Administration, Department of Transportation, 1200 New Jersey Avenue SE., Room E71-324, Washington, DC 20590, Monday through Friday, except Federal holidays.

SUPPLEMENTARY INFORMATION: Title: Inventory of State Compliance on Serious Injury Reporting Using the Model Minimum Uniform Crash Criteria 4th Edition.

Type of request: New information collection requirement.

Background: The Federal Highway Administration (FHWA) Office of Safety's mission is to exercise leadership throughout the highway community to make the Nation's roadways safer by developing, evaluating, and deploying life-saving countermeasures; advancing the use of scientific methods and data-driven decisions, fostering a safety culture, and promoting an integrated, multidisciplinary 4 E's (Engineering, Education, Enforcement, Education) approach to safety. The mission is carried out through the Highway Safety Improvement Program (HSIP), a data driven strategic approach to improving highway safety on all public roads that focuses on performance. The goal of the program is to achieve a significant reduction in traffic fatalities and serious injuries on all public roads, including non-State-owned public roads and roads on tribal lands.

In keeping with that mission, the United States Congress on June 29, 2012 passed the Moving Ahead for Progress in the 21st Century Act (MAP-21), which was signed into law (Pub. L. 112-141) on July 6, 2012 by President Barrack Obama and continued in the Fixing America's Surface Transportation Act (FAST Act). MAP-21 is a milestone for the U.S. economy and the Nation's surface transportation program as it transformed the policy and programmatic framework for investments to guide the system's growth and development and created a streamlined performance-based surface transportation program. The FHWA defines Transportation Performance Management (TPM) as a strategic approach that uses system information to make investment and policy decisions to achieve national performance goals.

MAP-21 required the Secretary of Transportation to establish performance measures for States to use to assess serious injuries and fatalities per vehicle mile traveled; and the number of serious injuries and fatalities, for the purposes of carrying out the HSIP under 23 U.S.C. 148. The HSIP is applicable to all public roads and therefore requires crash reporting by law enforcement agencies that have jurisdiction over them.

In defining performance measures for serious injuries, FHWA requires national reporting by States using a uniform definition for national reporting in this performance area, as required by MAP-21. An established standard for defining serious injuries as a result of motor vehicle related crashes has been developed in the 4th edition of the Model Minimum Uniform Crash Criteria (MMUCC). MMUCC represents a voluntary and collaborative effort to generate uniform crash data that are accurate, reliable and credible for data-driven highway safety decisions within a State, between States, and at the national level. The MMUCC defines a serious injury resulting from traffic crashes as “Suspected Serious Injury (A)” whose attributes are: Any injury, other than fatal, which results in one or more of the following: Severe laceration resulting in exposure of underlying tissues, muscle, organs, or resulting in significant loss of blood; broken or distorted extremity (arm or leg); crush injuries; suspected skull, chest, or abdominal injury other than bruises or minor lacerations; significant burns (second and third degree burns over 10 percent or more of the body); unconsciousness when taken from the crash scene; or paralysis.

As part of the national requirement to report serious injuries using the MMUCC 4th Edition definition, the FHWA seeks to determine if States have adopted the MMUCC 4th edition definition, attribute and coding convention by the required April 15, 2019 date. Specifically, States will be considered compliant with the serious injury definition requirement if it: Maintains a statewide crash database capable of accurately aggregating the MMUCC 4th Edition injury status attribute for “Suspected Serious Injury (A); Ensures the State crash database, data dictionary and crash report user manual employs the verbatim terminology and definitions for the MMUCC 4th Edition injury status attribute Suspected Serious Injury (A); Ensures the police crash form employs the verbatim MMUCC 4th Edition injury status attribute for Suspected Serious Injury (A); Ensures that the seven serious injury types specified in the Suspected Serious Injury (A) attribute are not included in any of the other attributes listed in the States' injury status data elements are MMUCC compliant.

The purpose of the information collection is to assess each States' ability to report serious injuries using the new Federal definition. This assessment will require consultation with the State database owner, State law enforcement agency and possibly county and municipal law enforcement agencies that don't use the State form.

Respondents: State, the District of Columbia, Puerto Rico, tribal and local traffic records management agencies and law enforcement. (75 total).

Frequency: One time collection.

Estimated Average Burden per Response: It will take approximately 30 minutes per participant.

Estimated Total Annual Burden Hours: Approximately 37 hours for a one-time collection.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: August 31, 2017.
Michael Howell,
Information Collection Officer.

[FR Doc. 2017-18990 Filed 9-6-17; 8:45 am]

BILLING CODE 4910-22-P